DEPARTMENT OF COMMERCE

International Trade Administration

A-570-803

13th Administrative Review of Heavy Forged Hand Tools, Finished or Unfinished, With or Without Handles, from the People's Republic of China: Notice of Amended Final Results of Sales at Less Than Fair Value and Antidumping Duty Order Pursuant to Court Decision

AGENCY: Import Administration, International Trade Administration, Department of Commerce.

EFFECTIVE DATE: April 1, 2008.

FOR FURTHER INFORMATION CONTACT: Paul Walker, AD/CVD Operations, Office 9, Import Administration, International Trade Administration, U.S. Department of Commerce, 14th Street and Constitution Avenue, NW, Washington, DC 20230; telephone: 202- 482-0413.

SUPPLEMENTARY INFORMATION:

Background

This matter arose from a challenge to the results in the Department of Commerce's (the “Department”) Heavy Forged Hand Tools, Finished or Unfinished, With or Without Handles, From the People's Republic of China: Final Results of Antidumping Duty Administrative Reviews and Final Rescission and Partial Rescission of Antidumping Duty Administrative Reviews, 70 FR 54897 (September 19, 2005) (“Final Results”), and accompanying Issues and Decisions Memorandum, covering the period of review (“POR”), February 1, 2003 January 31, 2004. Following publication of the Final Results, the Petitioner, Ames True Temper Inc. (“Ames”), filed a lawsuit with the Court of International Trade (“CIT”) challenging the Department's Final Results. Ames contested several aspects of the Final Results, including the Department's decision to only use certain factors of production (“FOPs”) to value Shandong Huarong Machinery Co., Ltd.'s self-produced, metal pallets.

On August 31, 2007 the CIT directed the Department to reopen the record and obtain additional evidence regarding Huarong's production of metal pallets. See Ames True Temper v. United States, 2007 Ct. Int'l Trade LEXIS 131, Slip Op. 2007-133 (CIT 2007) (“Ames”). Pursuant to the CIT's remand instructions, we issued supplemental questionnaires on September 19, 2007 and October 19, 2007. Huarong responded to the questionnaires on October 17, 2007 and October 26, 2007, respectively. In the supplemental questionnaires the Department requested: (a) consumption ratios for all factors of production (“FOPs”) associated with the production of pallets used in packing and shipping heavy forged hand tools; (b) information to select surrogate values for any unreported pallet making FOPs; and, (c) supplier distances for any unreported pallet making FOPs.

The Department released the Draft Results of Redetermination Pursuant to Court Remand to Ames and Huarong for comment on November 16, 2007. No party submitted comments. On November 28, 2007 the Department filed its final results of redetermination pursuant to remand in Ames with the CIT. See Final Results of Redetermination Pursuant to Court Remand, Court No. 05-00581 (November 28, 2007) (“Final Redetermination”), found at http://ia.ita.doc.gov/remands/07-133.pdf. In the remand redetermination, the Department determined that welding wire was consumed in Huarong's pallet making process and that welding wire should have been reported by Huarong as a FOP during the thirteenth review. The Department valued welding wire using publicly available Indian import statistics for February 2003 - January 2004 from the World Trade Atlas (“WTA”). Thus, the Department included the cost of welding wire in Huarong's normal value, including freight costs associated with Huarong's purchases of the welding wire. On January 18, 2008 the CIT sustained all aspects of the remand redetermination made by the Department pursuant to the CIT's remand of the Final Results. See Ames True Temper v. United States, Slip Op. 08-8 (CIT 2008).

On January 30, 2008, consistent with the decision in Timken Co. v. United States, 893 F.2d 337 (Fed. Cir. 1990), the Department notified the public that the Court's decision was not in harmony with the Department's final results. See Heavy Forged Hand Tools from the People's Republic of China: Notice of Court Decision Not In Harmony With Final Results of Administrative Review, 73 FR 5514 (January 30, 2008). No party appealed the CIT's decision. As there is now a final and conclusive court decision in this case, we are amending our Final Results.

Amended Final Results

As the litigation in this case has concluded, the Department is amending the Final Results to reflect the results of our remand determination. The revised dumping margin for the order on axes/adzes in the amended final results is as follows:

Exporter | Margin
Shandong Huarong Machinery Co., Ltd. | 175.04%

The PRC-wide rate continues to be 175.04 percent as determined in the Department's Final Results. The Department intends to issue instructions to U.S. Customs and Border Protection (“CBP”) fifteen days after publication of this notice, to revise the cash deposit rates for the company listed above, effective as of the publication date of this notice. Because Huarong obtained a preliminary injunction, we will also instruct CBP to liquidate all entries at the appropriate rate.¹

¹ We will not issue liquidation instructions with respect to any other heavy forged handtools order, i.e., bars/wedges, picks/mattocks and hammers/sledges.

This notice is published in accordance with sections 735(d) and 777(i) of the Tariff Act of 1930, as amended.

Dated: March 14, 2008.
David M. Spooner,
Assistant Secretary for Import Administration.

[FR Doc. E8-6679 Filed 3-31-08; 8:45 am]

BILLING CODE 3510-DS-S